DEPARTMENT OF ENERGY

Federal Energy Regulatory Commission

[Project No. 3133-033]

Brookfield White Pine Hydro, LLC, Errol Hydro Co., LLC; Notice of Application Accepted for Filing, Soliciting Motions To Intervene and Protests, Ready for Environmental Analysis, and Soliciting Comments, Preliminary Terms and Conditions, and Preliminary Fishway Prescriptions

Take notice that the following hydroelectric application has been filed with the Commission and is available for public inspection.

a. Type of Application: New Major License.

b. Project No.: 3133-033.

c. Date filed: July 30, 2021.

d. Applicant: Brookfield White Pine Hydro, LLC and Errol Hydro Co., LLC (the licensees).

e. Name of Project: Errol Hydroelectric Project (Errol Project).

f. Location: The Errol Project is located on the Androscoggin River and Umbagog Lake, near the Town of Errol, and Township of Cambridge, NH, in Coos Wing County, New Hampshire and the Towns of Magalloway Plantation and Upton in Oxford County, Maine. The project occupies 3,285 acres federal land in the Umbagog National Wildlife Refuge administered by the U.S. Fish and Wildlife Service.

g. Filed Pursuant to: Federal Power Act 16 U.S.C. 791(a)-825(r).

h. Applicant Contact: Mr. Tom Uncher, Vice President, Brookfield White Pine Hydro, LLC, Errol Hydroelectric Co., LLC, 339B Big Bay Rd., Queensbury, NY 12804, Phone at: (518) 743-2018, Thomas.Uncher@brookfieldrenewable.com.

i. FERC Contact: Kelly Wolcott at (202) 502-6480 or email at kelly.wolcott@ferc.gov.

j. Deadline for filing comments, recommendations, terms and conditions, and prescriptions: 60 days from the issuance date of this notice; reply comments are due 105 days from the issuance date of this notice.

The Commission strongly encourages electronic filing. Please file motions to intervene, protests, comments, recommendations, preliminary terms and conditions, and preliminary fishway prescriptions using the using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper request. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-3133-033.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on July 15, 2020, revising the regulations under 40 CFR parts 1500-1518 that federal agencies use to implement the National Environmental Policy Act (see Update to the Regulations Implementing the Procedural Provisions of the NEPA, 85 FR 43,304). The Final Rule became effective on and applies to any NEPA process begun after September 14, 2020. An agency may also apply the regulations to ongoing activities and environmental documents begun before September 14, 2020, which includes the proposed Errol Project. Commission staff intends to conduct its NEPA review in accordance with CEQ's new regulations.

l. The Errol Project consists of: (1) An existing dam consisting of a 25-foot-high, 202.5-foot-long gated section separated by rock-filled timber or concrete crib piers supporting five sluice gates and seven deep gates, and an earthen dike with a sheet steel cut-off wall on the upstream side, extending approximately 50 feet from the end of the gated section of the dam to the northwestern wall of the powerhouse and then extending another approximately 70 feet from the southeastern powerhouse wall to the eastern embankment; (2) an approximately 9,098-acre project impoundment with a storage capacity of 89,568 acre-feet at a normal pond elevation of 1,247 feet, which includes an approximately 3-mile-long reach of the Androscoggin River above Errol Dam, Umbagog Lake, and approximately 4.3 miles of the Magalloway River; (3) a reinforced concrete powerhouse containing one horizontal double regulated bulb turbine-generator unit with a hydraulic capacity of 2,600 cubic feet per second and an authorized installed generating capacity of 2,031 kilowatts (kW); (4) an approximately 80-foot-long tailrace; (5) a 3,333-kilovolt-ampere substation power transformer; and (6) appurtenant facilities.

The Errol Project is operated in accordance with the current license, and three water agreements that dictate operational flows in the watershed for other hydropower developments and for waterfowl nesting, with an estimated annual energy production of approximately 15,944 megawatt hours. The licensees propose to operate the project allowing for seasonal flows necessary for waterfowl nesting in Umbagog Lake and spring runoff and does not propose any new construction to the project. A license amendment was issued for the project in 2016 (156 FERC ¶ 62,045 (2016)), which approved the installation of a sixth turbine generator unit, which would increase the total installed capacity to 3,542.5 kW; however, the additional generator unit has not yet been installed.

m. A copy of the application can be viewed on the Commission's website at http://www.ferc.gov using the “eLibrary” link. Enter the docket number excluding the last three digits in the docket number field to access the document. At this time, the Commission has suspended access to the Commission's Public Reference Room, due to the proclamation declaring a National Emergency concerning the Novel Coronavirus Disease (COVID-19), issued by the President on March 13, 2020. You may also register online at http://www.ferc.gov/docs-filing/esubscription.asp to be notified via email of new filings and issuances related to this or other pending projects. For assistance, contact FERC at FERCOnllineSupport@ferc.gov or call toll-free, (886) 208-3676 or TTY, (202) 502-8659.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. The license applicant must file no later than 60 days following the date of issuance of this notice: (1) A copy of the water quality certification; (2) evidence of the date on which the certifying agency received the request; or (3) evidence of waiver of water quality certification. Please note that the certification request must comply with 40 CFR 121.5(b), including documentation that a pre-filing meeting request was submitted to the certifying authority at least 30 days prior to submitting the certification request. Please note that the certification request must be sent to the certifying authority and to the Commission concurrently.

p. Final amendments to the application must be filed with the Commission no later than 30 days from the issuance date of this notice.

q. Procedural schedule: The application will be processed according to the following schedule. Revisions to the schedule will be made as appropriate.

Milestone | Target date
Deadline for Filing Protest, Motion to Intervene, Comments, Recommendations, Preliminary Terms and Conditions, and Preliminary Fishway Prescriptions | June 2022.
Deadline for Filing Reply Comments | July 2022.

Dated: April 4, 2022.
Kimberly D. Bose,
Secretary.

[FR Doc. 2022-07530 Filed 4-7-22; 8:45 am]

BILLING CODE 6717-01-P